DEPARTMENT OF HOMELAND SECURITY

Federal Emergency Management Agency

[Docket ID FEMA-2022-0002; Internal Agency Docket No. FEMA-B-2203]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama: Lee | City of Opelika (21-04-1701P) | The Honorable Gary Fuller, Mayor, City of Opelika, P.O. Box 390, Opelika, AL 36803 | Department of Public Works, 700 Fox Trail, Opelika, AL 36803 | https://msc.fema.gov/portal/advanceSearch | Mar. 29, 2022 | 010145
Florida:
Lake | Unincorporated areas of Lake County (20-04-5238P) | Ms. Jennifer Barker, Interim Manager, Lake County, 315 West Main Street, Tavares, FL 32778 | Lake County Public Works Department, 323 North Sinclair Avenue, Tavares, FL 32778 | https://msc.fema.gov/portal/advanceSearch | Apr. 8, 2022 | 120421
Monroe | Village of Islamorada (21-04-5529P) | The Honorable Buddy Pinder, Mayor, Village of Islamorada, 86800 Overseas Highway, Islamorada, FL 33036 | Building Department, 86800 Overseas Highway, Islamorada, FL 33036 | https://msc.fema.gov/portal/advanceSearch | Apr. 11, 2022 | 120424
Orange | Unincorporated areas of Orange County (20-04-5238P) | The Honorable Jerry L. Demings, Mayor, Orange County, 201 South Rosalind Avenue, 5th Floor, Orlando, FL 32801 | Orange County Stormwater Division, 4200 South John Young Parkway, Orlando, FL 32839 | https://msc.fema.gov/portal/advanceSearch | Apr. 8, 2022 | 120179
Pasco | Unincorporated areas of Pasco County (20-04-2814P) | The Honorable Kathryn Starkey, Chair, Pasco County Board of Commissioners, 37918 Meridian Avenue, Dade City, FL 33525 | Pasco County Department of Public Works, 4454 Grand Boulevard, New Port Richey, FL 34652 | https://msc.fema.gov/portal/advanceSearch | Apr. 11, 2022 | 120230
Maryland:
Cecil | Town of Charlestown (21-03-1510P) | The Honorable Karl Fockler, President, Town of Charlestown Board of Commissioners, P.O. Box 154, Charlestown, MD 21914 | Town Hall, 241 Market Street, Charlestown, MD 21914 | https://msc.fema.gov/portal/advanceSearch | Mar. 31, 2022 | 240021
Cecil | Unincorporated areas of Cecil County (21-03-1510P) | The Honorable Danielle Hornberger, Cecil County Executive, 200 Chesapeake Boulevard, Suite 2100, Elkton, MD 21921 | Cecil County Department of Land Use and Development Services, 200 Chesapeake Boulevard, Suite 1200, Elkton, MD 21921 | https://msc.fema.gov/portal/advanceSearch | Mar. 31, 2022 | 240019
Dorchester | Unincorporated areas of Dorchester County (21-03-1511P) | The Honorable Jay L. Newcomb, President, Dorchester County Council, P.O. Box 107, Cambridge, MD 21613 | Dorchester County Planning and Zoning Department, 501 Court Lane, Room 111, Cambridge, MD 21613 | https://msc.fema.gov/portal/advanceSearch | Apr. 11, 2022 | 240026
Massachusetts: Barnstable | Town of Chatham (21-01-1300P) | Ms. Jill Goldsmith, Manager, Town of Chatham, 549 Main Street, Chatham, MA 02633 | Community Development Department, 261 George Ryder Road, Chatham, MA 02633 | https://msc.fema.gov/portal/advanceSearch | Mar. 11, 2022 | 250004
Mississippi:
DeSoto | Unincorporated areas of DeSoto County (20-04-2263P) | Ms. Vanessa Lynchard, DeSoto County Administrator, 365 Losher Street, Suite 300, Hernando, MS 38632 | DeSoto County Planning Department, 365 Losher Street, Suite 200, Hernando, MS 38632 | https://msc.fema.gov/portal/advanceSearch | Feb. 25, 2022 | 280050
Harrison | City of Pass Christian (21-04-3028P) | The Honorable Jimmy Rafferty, Mayor, City of Pass Christian, 200 West Scenic Drive, Pass Christian, MS 39571 | City Hall, 200 West Scenic Drive, Pass Christian, MS 39571 | https://msc.fema.gov/portal/advanceSearch | Apr. 4, 2022 | 285261
North Carolina: Surry | Unincorporated areas of Surry County (21-04-0390P) | The Honorable Mark Marion, Chairman, Surry County Board of Commissioners, P.O. Box 1467, Dobson, NC 27017 | Surry County Central Permitting Center, 122 Hamby Road, Dobson, NC 27017 | https://msc.fema.gov/portal/advanceSearch | Mar. 14, 2022 | 370364
South Carolina:
Jasper | City of Hardeeville (21-04-2468P) | Mr. Michael J. Czymbor, Manager, City of Hardeeville, 205 Main Street, Hardeeville, SC 29927 | Planning and Development Department, 205 Main Street, Hardeeville, SC 29927 | https://msc.fema.gov/portal/advanceSearch | Mar. 10, 2022 | 450113
Jasper | Unincorporated areas of Jasper County (21-04-2468P) | The Honorable Barbara Clark, Chair, Jasper County Council, 358 3rd Avenue, Ridgeland, SC 29936 | Jasper County Planning and Building Department, 358 3rd Avenue, Ridgeland, SC 29936 | https://msc.fema.gov/portal/advanceSearch | Mar. 10, 2022 | 450112
South Dakota: Pennington | City of Rapid City (21-08-0301P) | The Honorable Steve Allender, Mayor, City of Rapid City, 300 6th Street, Rapid City, SD 57701 | Public Works Department- Engineering Services Division, 300 6th Street, Rapid City, SD 57701 | https://msc.fema.gov/portal/advanceSearch | Apr. 4, 2022 | 465420
Texas:
Bexar | City of San Antonio (21-06-1633P) | The Honorable Ron Nirenberg, Mayor, City of San Antonio, P.O. Box 839966, San Antonio, TX 78283 | Stormwater Engineering Division, 114 West Commerce Street, 6th Floor, San Antonio, TX 78205 | https://msc.fema.gov/portal/advanceSearch | Feb. 14, 2022 | 480045
Bexar | Unincorporated areas of Bexar County (21-06-1633P) | The Honorable Nelson W. Wolff, Bexar County Judge, 101 West Nueva Street, 10th Floor, San Antonio, TX 78205 | Bexar County Public Works Department, 1948 Probandt Street, San Antonio, TX 78214 | https://msc.fema.gov/portal/advanceSearch | Feb. 14, 2022 | 480035
Dallas | City of Carrollton (21-06-1452P) | Ms. Erin Rinehart, Manager, City of Carrollton, 1945 East Jackson Road, Carrollton, TX 75006 | Engineering Department, 1945 East Jackson Road, Carrollton, TX 75006 | https://msc.fema.gov/portal/advanceSearch | Mar. 28, 2022 | 480167
Dallas | City of Coppell (21-06-1452P) | The Honorable Wes Mays, Mayor, City of Coppell, P.O. Box 9478, Coppell, TX 75019 | Department of Public Works, 265 East Parkway Boulevard, Coppell, TX 75019 | https://msc.fema.gov/portal/advanceSearch | Mar. 28, 2022 | 480170
Harris | Unincorporated areas of Harris County (21-06-0376P) | The Honorable Lina Hidalgo, Harris County Judge, 1001 Preston Street, Suite 911, Houston, TX 77002 | Harris County Permit Office, 10555 Northwest Freeway, Suite 120, Houston, TX 77092 | https://msc.fema.gov/portal/advanceSearch | Mar. 7, 2022 | 480287
Lubbock | City of Lubbock (21-06-0664P) | The Honorable Dan Pope, Mayor, City of Lubbock, P.O. Box 2000, Lubbock, TX 79457 | Engineering Department, 1314 Avenue K, 7th Floor, Lubbock, TX 79401 | https://msc.fema.gov/portal/advanceSearch | Mar. 28, 2022 | 480452
Tarrant | City of Benbrook (21-06-0911P) | The Honorable Jerry Dittrich, Mayor, City of Benbrook, 911 Winscott Road, Benbrook, TX 76126 | City Hall, 911 Winscott Road, Benbrook, TX 76126 | https://msc.fema.gov/portal/advanceSearch | Apr. 4, 2022 | 480586
Tarrant | City of Fort Worth (21-06-0911P) | The Honorable Mattie Parker, Mayor, City of Fort Worth, 200 Texas Street, Fort Worth, TX 76102 | Transportation and Public Works Department, Engineering Vault, 200 Texas Street, Fort Worth, TX 76102 | https://msc.fema.gov/portal/advanceSearch | Apr. 4, 2022 | 480596
Utah:
Salt Lake | City of Riverton (21-08-0943P) | The Honorable Trent Staggs, Mayor, City of Riverton, 12830 South Redwood Road, Riverton, UT 84065 | Public Works Department, 12526 South 4150 West, Riverton, UT 84096 | https://msc.fema.gov/portal/advanceSearch | Mar. 28, 2022 | 490104
Salt Lake | City of South Jordan (21-08-0943P) | The Honorable Dawn R. Ramsey, Mayor, City of South Jordan, 1600 West Towne Center Drive, South Jordan, UT 84095 | Development Services Department, 1600 West Towne Center Drive, South Jordan, UT 84095 | https://msc.fema.gov/portal/advanceSearch | Mar. 28, 2022 | 490107
West Virginia:
Grant | City of Petersburg (21-03-0421P) | The Honorable Gary A. Michael, Mayor, City of Petersburg, 21 Mount View Street, Petersburg, WV 26847 | City Hall, 21 Mount View Street, Petersburg, WV 26847 | https://msc.fema.gov/portal/advanceSearch | Mar. 23, 2022 | 540039
Grant | Unincorporated areas of Grant County (21-03-0421P) | The Honorable Scotty Miley, President, Grant County Commission, 5 Highland Avenue, Petersburg, WV 26847 | Grant County Courthouse, 5 Highland Avenue, Petersburg, WV 26847 | https://msc.fema.gov/portal/advanceSearch | Mar. 23, 2022 | 540038

[FR Doc. 2022-03117 Filed 2-11-22; 8:45 am]

BILLING CODE 9110-12-P